DEPARTMENT OF AGRICULTURE

Animal and Plant Health Inspection Service

[Docket No. APHIS-2006-0178]

Notice of Request for Approval of an Information Collection; Voluntary Bovine Johne's Disease Control Program

AGENCY: Animal and Plant Health Inspection Service, USDA.

ACTION: Approval of an information collection; comment request.

SUMMARY: In accordance with the Paperwork Reduction Act of 1995, this notice announces the Animal and Plant Health Inspection Service's intention to initiate an information collection associated with the Voluntary Bovine Johne's Disease Control Program.

DATES: We will consider all comments that we receive on or before April 17, 2007.

ADDRESSES: You may submit comments by either of the following methods:

• Federal eRulemaking Portal: Go to http://www.regulations.gov, select “Animal and Plant Health Inspection Service” from the agency drop-down menu, then click “Submit.” In the Docket ID column, select APHIS-2006-0178 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0178, Regulatory Analysis and Development, PPD, APHIS, Station 3A-03.8, 4700 River Road Unit 118, Riverdale, MD 20737-1238. Please state that your comment refers to Docket No. APHIS-2006-0178.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Voluntary Bovine Johne's Disease Control Program, contact Dr. Michael Carter, Senior Staff Veterinarian, National Center for Animal Health Programs, VS, APHIS, 4700 River Road Unit 43, Riverdale, MD 20737; (301) 734-7954. For copies of more detailed information on the information collection, contact Mrs. Celeste Sickles, APHIS' Information Collection Coordinator, at (301) 734-7477.

SUPPLEMENTARY INFORMATION: Title: Voluntary Bovine Johne's Disease Control Program.

OMB Number: 0579-XXXX.

Type of Request: Approval of an information collection.

Abstract: The Animal and Plant Health Inspection Service (APHIS) is authorized, among other things, to prevent the introduction and interstate spread of serious diseases and pests of livestock and for eradicating such diseases from the United States when feasible. In connection with this mission, Veterinary Services (VS), APHIS, prohibits or restricts the interstate movement of livestock that have, or have been exposed to, certain diseases.

Johne's disease, also known as paratuberculosis, is caused by Mycobacterium avium subspecies paratuberculosis (MAP) and primarily affects cattle, sheep, goats, and other domestic, exotic, and wild ruminants. The disease is a chronic and contagious enteritis that results in progressive wasting and eventual death. It is nearly always introduced into a healthy herd by an infected animal that is not showing symptoms of the disease.

The regulations in 9 CFR, chapter I, subchapter C, govern the interstate movement of animals to prevent the dissemination of livestock and poultry diseases in the United States. Subchapter C, part 71, contains general provisions for the interstate movement of animals, poultry, and their products, while part 80 pertains specifically to the interstate movement of domestic animals that are positive to an official test for Johne's disease.

These regulations provide that cattle, sheep, goats, and other domestic animals that are positive to an official test for Johne's disease may generally be moved interstate only to a recognized slaughtering establishment or to an approved livestock facility for sale to such an establishment. The animals must bear an official eartag and be shipped with an owner-shipper statement.

Supplementing the regulations are standards outlined in the document, “Uniform Program Standards for the Voluntary Bovine Johne's Disease Control Program” (VBJDCP). The voluntary, cooperative program is administered by the States and supported by industry and APHIS.

The program provides national standards for the control of Johne's disease. The program consists of three basic elements: (1) Education, to inform producers about the cost of Johne's disease and to provide information about management strategies to prevent, control, and eliminate the disease; (2) management, to help producers establish good management strategies on their farms; and (3) herd testing and classification, to help separate test-positive herds from test-negative herds.

To better support the voluntary program across the States, VS is proposing the use of several new information collection activities. Currently, all information collections are being done through the State programs. The information collections that APHIS would administer for the voluntary program are as follows:

• An annual report, VS Form 4-29, and quarterly report to track the progress of each State's programs. VS will use this information to make decisions about supplemental funding.

• An application for Herd Entry/Renewal into the program, VS Form 4-28, to identify herds whose owners are interested in participating in the VBJDCP.

• A risk assessment and management plan for dairy cattle or beef cattle to assist field veterinary medical officers or Johne's certified veterinarians to review the management practices of the farm and develop a herd management plan capable of reducing or stopping the transmission of MAP.

• Johne's Vaccination Record, VS Form 4-27, and continuation sheet, VS Form 4-27A, to record the identity of specific animals vaccinated with a MAP bacterin to avoid interference with the tuberculosis eradication surveillance efforts.

• Test Record, VS Form 4-30, and its continuation sheet, VS Form 4-30A, to record samples submitted and laboratory results from testing done for the VBJDCP.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.651378689 hours per response.

Respondents: Participating cattle producers; APHIS accredited veterinarians, State animal health officials, and State personnel who perform VBJDCP activities.

Estimated annual number of respondents: 50,602.

Estimated annual number of responses per respondent: 2.1393423.

Estimated annual number of responses: 108,255.

Estimated total annual burden on respondents: 70,515 hours. (Due to averaging, the total annual burden hours may not equal the product of the annual number of responses multiplied by the reporting burden per response.)

All responses to this notice will be summarized and included in the request for OMB approval. All comments will also become a matter of public record.

Done in Washington, DC, this 12th day of February 2007.
Kevin Shea,
Acting Administrator, Animal and Plant Health Inspection Service.

[FR Doc. E7-2788 Filed 2-15-07; 8:45 am]

BILLING CODE 3410-34-P